FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 3, 2015.

A. Federal Reserve Bank of Minneapolis (Jacquelyn K. Brunmeier, Assistant Vice President) 90 Hennepin Avenue, Minneapolis, Minnesota 55480-0291:

1. Debra J. Erickson, Lakeland Shores, Minnesota, individually and as co-trustee of the Bank Stock Family Trust Created Under the David B. Erickson Revocable Trust dated May 12, 2010, Hudson, Wisconsin (Gary D. Vander Vorst, Hudson, Wisconsin, Co-Trustee), to acquire voting shares of Freedom Bancorporation, Inc. (“Freedom BC”), Lindstrom, Minnesota, and thereby indirectly acquire voting shares of Lake Area Bank, Lindstrom, Minnesota.

In addition, the Descendants Separate Trust CLE Irrev Tr FBO DBE FBO Ashley B. Erickson, the Descendants Separate Trust CLE Irrev Tr FBO DBE FBO Bradley D. Erickson, and the Descendants Separate Trust CLE Irrev Tr FBO DBE FBO Grady L. Erickson, all of Hudson, Wisconsin (Gary D. Vander Vorst, trustee of the trusts), have applied to retain voting shares of Freedom BC and thereby remain members of the Erickson Family Shareholder Group, which controls Freedom BC.

Board of Governors of the Federal Reserve System, November 13, 2015.
Margaret McCloskey Shanks,
Deputy Secretary of the Board.

[FR Doc. 2015-29439 Filed 11-17-15; 8:45 am]

BILLING CODE 6210-01-P